Title 3—

The President

Proclamation 10683 of December 6, 2023

National Pearl Harbor Remembrance Day, 2023

By the President of the United States of America

A Proclamation

On this day 82 years ago, 2,403 service members and civilians were killed in a painful and unprovoked attack on our Armed Forces. On National Pearl Harbor Remembrance Day, we remember these women and men, who gave their last full measure of devotion to our Nation. We honor the brave service members who—with the horrors of Pearl Harbor weighing on their hearts and the hopes of humanity resting on their shoulders—answered the call to defend freedom against the forces of fascism during World War II.

The stories of the Greatest Generation's ultimate courage and commitment continue to inspire an enduring sense of unity and purpose throughout our Nation. They remind us that, in the darkest of moments, we have the power to bend the arc of history toward a freer and more just future. They remind us that, from death, destruction, and division, we can build a better world—one grounded in peace and security. They remind us that the forces of tyranny and terrorism are no match for the flame of liberty that burns in the hearts of free people everywhere. Above all, they remind us that every generation can—and must—defeat democracy's mortal foes.

Together, we must continue to answer that call. We must continue to honor our sacred obligation to care for our service members; veterans; and their families, caregivers, and survivors—including our World War II veterans, who dared all and risked all for our country. With bipartisan support in the Congress, my Administration is meeting that obligation—including now welcoming all World War II veterans to enroll in Veterans Affairs health care services, regardless of length of service or financial status.

As we honor the patriots who perished on this tragic day 82 years ago and the service members who defended democracy in the days and years that followed, let us carry forward their mission of forging a better future for humankind, one of greater dignity, opportunity, and security for all. Let us remember that we are the United States of America—and there is nothing beyond our capacity if we do it together.

The Congress, by Public Law 103-308, as amended, has designated December 7 of each year as “National Pearl Harbor Remembrance Day.” Today, let us commemorate the patriots who were wounded and who perished on December 7, 1941, and continue to fulfill our sacred obligation to care for our service members; veterans; and their families, caregivers, and survivors.

NOW, THEREFORE, I, JOSEPH R. BIDEN JR., President of the United States of America, do hereby proclaim December 7, 2023, as National Pearl Harbor Remembrance Day. I encourage all Americans to reflect on the courage shown by our brave service members that day and remember their sacrifices. I ask us all to give sincere thanks and appreciation to the survivors of that unthinkable day. I urge all Federal agencies, interested organizations, groups, and individuals to fly the flag of the United States at half-staff on December 7, 2023, in honor of those American patriots who died as a result of their service at Pearl Harbor.

IN WITNESS WHEREOF, I have hereunto set my hand this sixth day of December, in the year of our Lord two thousand twenty-three, and of the Independence of the United States of America the two hundred and forty-eighth.

[FR Doc. 2023-27218

Filed 12-8-23; 8:45 am]

Billing code 3395-F4-P